DEPARTMENT OF TRANSPORTATION

Federal Aviation Administration

14 CFR Part 23

[Docket No. CE305; Special Conditions No. 23-245-SC]

Special Conditions: Cirrus Design Corporation, Model SF50; Fire Extinguishing for Upper Aft Fuselage Mounted Engine; Withdrawal

AGENCY: Federal Aviation Administration (FAA), DOT.

ACTION: Final special conditions; withdrawal.

SUMMARY: The FAA is withdrawing a previously published notice granting special conditions for the Cirrus Design Corporation model SF50 airplane. We are withdrawing Special Condition No. 23-245-SC through mutual agreement with Cirrus Design Corporation.

DATES: This special condition published on April 20, 2010 at 75 FR 20518 is withdrawn, effective June 14, 2013.

FOR FURTHER INFORMATION CONTACT: Leslie B. Taylor, Federal Aviation Administration, Small Airplane Directorate, Aircraft Certification Service, 901 Locust, Room 301, Kansas City, MO 64106; telephone (816) 329-4134; facsimile (816) 329-4090, email leslie.b.taylor@faa.gov.

SUPPLEMENTARY INFORMATION:

Background

On April 20, 2010, the FAA published Special Condition No. 23-245-SC for the Cirrus Design Corporation new model SF50. The model SF50 is a 7-seat (5 adults and 2 children), pressurized, retractable gear, carbon composite, airplane with one turbofan engine mounted partially in the upper aft fuselage.

The single turbofan engine is mounted on the upper aft fuselage, not in the pilot's line of site. Upper aft fuselage mounted engine installations, along with the need to protect such installed engines from fires, were not envisioned in the development of the part 23 normal category regulations.

The model SF50 certification project was granted an extension on September 19, 2011. Amendment 23-62 (76 FR 75736), published December 2, 2011, incorporated Special Condition No. 23-245-SC. On December 11, 2012, Cirrus Design Corporation elected to adjust the model SF50 certification basis to 14 CFR part 23, Amendment 62.

Reason for Withdrawal

The FAA is withdrawing Special Condition No. 23-245-SC because Cirrus elected to revise the model SF50 certification basis to Amendment 23-62.

The authority citation for this Special Condition withdrawal is 49 U.S.C. 106(g), 40113 and 44701; 14 CFR 21.16 and 21.17; and 14 CFR 11.38 and 11.19.

Conclusion

Withdrawal of this special condition does not preclude the FAA from issuing another notice on the subject matter in the future or committing the agency to any future course of action.

Issued in Kansas City, Missouri on June 5, 2013.
Earl Lawrence,
Small Airplane Directorate, Aircraft Certification Service.

[FR Doc. 2013-14151 Filed 6-13-13; 8:45 am]

BILLING CODE 4910-13-P